DEPARTMENT OF AGRICULTURE

Foreign Agricultural Service

Uruguay Round Agricultural Safeguard Trigger Levels

AGENCY: Foreign Agricultural Service, USDA.

ACTION: Notification of Special Safeguard Duty on Imports of American-type Cheese.

SUMMARY: After reviewing the volume of American-type cheese imports, the Secretary of Agriculture determined that the yearly special safeguard trigger level had been met and a special safeguard duty on imports of American-type cheese would be imposed effective from the date of this notification through December 31, 2002. This additional duty, as described in subheading 9904.05.82 of the Harmonized Tariff Schedule of the United States (HTS), is 35.2 cents per kilogram.

DATES: The additional duty will be effective November 21, 2002 through December 31, 2002.

FOR FURTHER INFORMATION CONTACT: Charles R. Bertsch, Multilateral Trade Negotiations Division, STOP 1022, Foreign Agricultural Service, U.S. Department of Agriculture, 1400 Independence Avenue, SW., Washington, DC 20250-1022, or telephone (202) 720-6278.

SUPPLEMENTARY INFORMATION: U.S. Notes 1 and 2 to Subchapter IV, of Chapter 99 of the HTS, contain the safeguard measures established pursuant to Article 5 of the Agreement on Agriculture (as approved by section 101 of the Uruguay Round Agreements Act). These safeguard measures include the imposition of additional duties based upon the volume of imports into the United States for certain products, including American-type cheese. Subheading 9904.05.82 provides for the imposition of 35.2 cents per kilogram additional duty on imports of American-type cheese upon notification in the Federal Register by the Secretary of Agriculture or the Secretary's designated representative that a specific volume of imports has been exceeded (the trigger level for 2002 is 16,528,242 kg).

Subheading 9904.05.82 covers American-type cheese, which enters under subheadings 0406.10.38, 0406.20.39, 0406.20.71, 0406.30.38, 0406.30.71, 0406.90.54, and 0406.90.84 of Chapter 4 of the HTS.

Section 405(a) of the Uruguay Round Agreements Act requires, among other things, that the President shall determine and cause to be published in the Federal Register the list of special safeguard agricultural goods and the applicable trigger prices and, on an annual basis, trigger levels. Section 405(b) of that Act provides, in relevant part, that if the President determines with respect to a special safeguard agricultural good that it is appropriate to impose the volume-based safeguard, then the President shall determine the amount of the duty to be imposed, the period such duty shall be in effect, and any other terms and conditions applicable to the duty.

Further to the application of such special agricultural safeguard duties, the President proclaimed on December 23, 1994 (Presidential Proclamation No. 6763) the provisions of U.S. Notes 1 and 2 to Subchapter IV, Chapter 99, of the HTS as well as the automatically applicable safeguard duties set forth in such subchapter upon satisfaction of the requistie conditions. Such U.S. Notes 1 and 2 set forth the other terms and conditions for application of any such duty.

As also provided in Presidential Proclamation 6763, the President delegated to the Secretary of agriculture the authority to make the determinations and effect the publications described in section 405(a) of the Uruguay Round Agreements Act. The Secretary of Agriculture has further delegated this authority to the Under Secretary for Farm and Foreign Agricultural Services (7 CFR 2.16(a)(3)(x1ii)), who has in turn further delegated such authority to the Administrator of the Foreign Agricultural Service (7 CFR 2.43(a)(42)).

The Administrator determined that the 2002 trigger level for American-type cheese is 16,528,242 kilograms (67 FR 38927), June 6, 2002.

Notice

The Administrator has determined that the amount of American-type cheese imported during 2002 has exceeded the trigger level of 16,528,242 kilograms. In accordance with U.S. Notes 1 and 2, Subchapter IV, Chapter 99 of the HTS and Subheading 9904.05.82 an additional duty of 35.2 cents per kilogram shall apply from the date of publication of this notice through December 31, 2002.

As provided in U.S. Note 1, goods of Canada or Mexico imported into the United States are not subject to such duty. As provided in U.S. Note 2, this duty shall not apply to any goods en route on the basis of a contract settled before the date of publication of this notice.

A. Ellen Terpstra,
Administrator, Foreign Agricultural Service.

[FR Doc. 02-29599 Filed 11-20-02; 8:45 am]

BILLING CODE 3410-10-M